DEPARTMENT OF AGRICULTURE

Forest Service

Payette National Forest, Idaho; Sloan-Kennally Timber Sale, Goose Creek Watershed Projects, Brown Creek Timber Sale, Middle Fork Weiser Vegetation Management Project; Little Weiser Vegetation Management Project

AGENCY: Forest Service, USDA.

ACTION: Notice of intent to prepare supplemental environmental impact statement.

SUMMARY: The USDA Forest Service will prepare five supplemental environmental impact statements (SEISs). The projects are: Sloan-Kennally Timber Sale, Goose Creek Watershed Projects, Brown Creek Timber Sale, Middle Fork Weiser Vegetation Management Project; Little Weiser Vegetation Management Project. The proposed actions in the original EISs are to harvest timber, conduct prescribe burns, manage roads, and implement related activities. The SEISs will provide additional information on the Forest-wide status of the pileated woodpecker on the Forest. The Payette National Forest invites written comments and suggestions on the scope of the analysis and the issues to address. The agency gives notice of the full National Environmental Policy Act (NEPA) analysis and decision-making process so that interested and affected people know how they may participate and contribute to the final decision.

DATES: Comments need to be received in writing by January 17, 2003.

ADDRESSES: Send written comments to Mark Madrid, Forest Supervisor, Payette National Forest, P.O. Box 1026, McCall ID 83638.

FOR FURTHER INFORMATION CONTACT: Questions about the proposal action should be directed to Curtis Spalding, Environmental Coordinator, at the above address, phone (208) 634-0796.

SUPPLEMENTARY INFORMATION: Payette National Forest completed Draft EISs (DEISs) and Final EISs (FEISs) for five projects between August 1998 and December 2001. The Forest Supervisor signed Record of Decisions (RODs) for each. Each project proceeded through the administrative appeal process (36 CFR 215) and was affirmed by the Deputy Regional Forester. In June 2002, the projects were named in a court complaint filed by the group Neighbors of Cuddy Mountain (Civ. 02-244-MJW) in District Court for the District of Idaho. After a series of hearings, on November 8, 2002, the Court ordered an injunction against the five projects based on the issue of old growth habitat retention.

Habitat and population monitoring has provided a body of data indicating the population trends of the pileated woodpecker on the Forest. The purpose of the supplemental environmental impact statements (SEISs) is to provide additional environmental analysis on the projects' compliance with the Forest Plan's old growth retention standard in light of the body of available data, to disclose that analysis to the public for review and comment, and to provide a basis for the original or new project decisions.

The preliminary issue for these SEISs is the effect of the proposed timber harvest on old growth habitat for pileated woodpecker, the management indicator for old growth habitat on the Payette National Forest.

A range of reasonable alternatives will be considered. The no-action alternative will serve as a baseline for comparison of alternatives. The proposed action will be considered along with additional alternative(s) needed to address major issues identified during scoping while meeting the meet the purpose and need of the projects defined in the original EISs.

Comments received in response to this notice, including names and addresses of those who comment, will be part of the project record and available for public review.

The Forest Service is seeking information and comments from other Federal, State, and local agencies; Tribal governments; organization; and individuals who may be interested in or affected by the proposals. This input will be used in preparation of the SEISs.

Comments will be appreciated throughout the analysis process. The draft SEISs will be filed with the Environmental Protection Agency (EPA) and are anticipated to be available for public review by January, 2003. The comment period on the draft SEISs will be 45 days. It is important that those interested in the management of the Payette National Forest participate at that time.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F. 2d 1016, 1002 (9th Cir. 1986) and Wisconsin Heritages, Inc. v. Harris, 490 F. Supp. 1334, 1338 (E.D. Wis. 1980). Because of these court rulings, it is important that those interested in this proposed action participation by the close of the 45-day comment period so that substantive comments and objections are made available to the Forest Service at a time when it can meaningfully consider them and respond to them in the final environmental impact statement.

To assist the Forest Service in identifying and considering issues raised by the proposed actions, comments on the draft environmental impact statements should be as specific as possible. It is also helpful if comments refer to specific pages or chapters of the draft statements. Comments may also address the adequacy of the draft statements or the merits of the alternatives formulated and discussed in the statements. Reviewers may wish to refer to the Council on Environmental Quality Regulations for implementing the procedural provisions of the National Environmental Policy Act at 40 CFR 1503.3 in addressing these points.

After the 45-day comment period ends on the draft EIS, the Forest Service will analyze comments received and address them in the final supplemental EISs (FSEISs). The FSEISs are scheduled to be completed in April 2003. The Responsible Official is the Payette National Forest Supervisor. For each project, if different from the original decision, the new decision will be documented, including the rationale for the decision, in a Record of Decision (ROD). Any decision will be subject to review under the Forest Service Appeal Regulations at 36 CFR 215.

Dated: December 23, 2002.
Mark J. Madrid,
Forest Supervisor.

[FR Doc. 02-32957 Filed 12-27-02; 8:45 am]

BILLING CODE 3410-11-M